DEPARTMENT OF EDUCATION

[Docket No. ED-2013-ICCD-0085]

Agency Information Collection Activities; Comment Request; Race to the Top—Early Learning Challenge Annual Performance Report

AGENCY: Office of Elementary and Secondary Education (OESE), Department of Education (ED).

ACTION: Notice.

SUMMARY: In accordance with the Paperwork Reduction Act of 1995 (44 U.S.C. chapter 3501 et seq.), ED is proposing a new information collection.

DATES: Interested persons are invited to submit comments on or before August 27, 2013.

ADDRESSES: Comments submitted in response to this notice should be submitted electronically through the Federal eRulemaking Portal at http://www.regulations.gov by selecting Docket ID number ED-2013-ICCD-0085 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Race to the Top—Early Learning Challenge Annual Performance Report.

OMB Control Number: 1810-NEW.

Type of Review: A new information collection.

Respondents/Affected Public: State, Local, or Tribal Governments.

Total Estimated Number of Annual Responses: 21.

Total Estimated Number of Annual Burden Hours: 2,520.

Abstract: The Race to the Top—Early Learning Challenge program is authorized by Sections 14005 and 14006, Division A, of the American Recovery and Reinvestment Act of 2009, as amended by section 1832(b) of Division B of Public Law 112-10, the Department of Defense and Full-Year Continuing Appropriations Act, 2011, and the Department of Education Appropriations Act, 2012 (Title III of Division F of Public Law 112-74, the Consolidated Appropriations Act, 2012). This program is jointly managed by the U.S. Department of Education and the U.S. Department of Health and Human Services.

The purpose of the Race to the Top—Early Learning Challenge program is to focus on improving early learning and development programs for young children by supporting States' efforts to: (1) Increase the number and percentage of low-income and disadvantaged children in each age group of infants, toddlers, and preschoolers who are enrolled in high-quality early learning programs; (2) design and implement an integrated system of high-quality early learning programs and services; and (3) ensure that any use of assessments conforms with the recommendations of the National Research Council's reports on early childhood. Five key program reform areas representing the foundation of an effective early learning and development reform agenda focused on school readiness and ongoing educational success. These five key reform areas are: (A) Successful State Systems; (B) High-Quality, Accountable Programs; (C) Promoting Early Learning and Development Outcomes for Children; (D) A Great Early Childhood Education Workforce; and (E) Measuring Outcomes and Progress. The first two reform areas, (A) and (B) are “Core Areas of Focus” for this program and all applicants addressed selection criteria based on these core areas. Reform areas (C), (D), and (E) are “Focused Investment Areas” where State's choose which specific areas to target based on their State's early childhood reform areas and policies. Research demonstrates that high-quality early learning and development programs and services can improve young children's health, social-emotional, and cognitive outcomes; enhance school readiness; and help close the school readiness gap that exists between children with High Needs and their more abled peers at the time they enter kindergarten.

The Annual Performance Report for this program will collect data on the performance measures and the selection criteria described in the application (note OMB approval in 2011). Program staff have reviewed this report carefully to minimize burden. The APR will be collected electronically which will enable program staff to pre-populate information on baseline data, approved performance targets, and approved annual budgets. This report will be used to provide necessary information to program staff and to the public on the implementation of these grants.

Dated: June 24, 2013.
Stephanie Valentine,
Acting Director, Information Collection Clearance Division, Privacy, Information and Records Management Services, Office of Management.

[FR Doc. 2013-15489 Filed 6-27-13; 8:45 am]

BILLING CODE 4000-01-P